COMMISSION ON CIVIL RIGHTS

Sunshine Act Meetings

TIME AND DATE: Friday, January 21, 2022, 12:00 p.m. EST.

PLACE: Meeting to take place by telephone and is open to the public by telephone: 800-259-2693, Conference ID #: 3653553.

STATUS: Open to the public.

MATTERS TO BE CONSIDERED: Commission business for the month of January.

CONTACT PERSON FOR MORE INFORMATION: Angelia Rorison: 202-376-7700; publicaffairs@usccr.gov.

Dated: January 19, 2022.
Angelia Rorison,
USCCR Media and Communications Director.

[FR Doc. 2022-01277 Filed 1-19-22; 4:15 pm]

BILLING CODE 6335-01-P